DEPARTMENT OF HOMELAND SECURITY

Coast Guard

[Docket No. USCG-2020-0311]

Notice of Availability of Record of Decision for the Final Supplemental Environmental Impact Statement/Supplemental Overseas Environmental Impact Statement for Mariana Islands Training and Testing

AGENCY: Coast Guard, DHS.

ACTION: Notice of availability.

SUMMARY: The Coast Guard is adopting portions of the Navy's Mariana Islands Training and Testing (MITT) Final 2020 Supplemental Environmental Impact Statement/Supplemental Overseas Environmental Impact Statement (SEIS/SOEIS), dated June 2020. The Coast Guard is doing this in its role as a cooperating agency to the lead agency, which is the Department of the Navy. The Coast Guard is issuing a Record of Decision to implement Alternative 2 to fully meet current and future training requirements.

DATES: The Coast Guard's Record of Decision is dated October 9, 2020.

ADDRESSES: To view the full text of the ROD or the Final SEIS/SOEIS, go to http://www.regulations.gov, insert MITT study area or USCG-2020-0311 in the “Keyword” box, and then click “Search.” Project documents, including the 2020 Final SEIS/SOEIS, are also available on the “2020 Mariana Islands Training and Testing Final Supplemental EIS/OEIS” web page at https://mitt-eis.com/. The 2015 Final EIS/OEIS can be accessed at https://mitt-eis.com/ as well at the “2015 Mariana Islands Training and Testing EIS/OEIS Documents” web page.

FOR FURTHER INFORMATION CONTACT: For information about this Record of Decision call or email Ms. Maile Norman, Office of Enforcement, U.S. Coast Guard; telephone 1-808-535-3264, email Maile.C.Norman@uscg.mil.

SUPPLEMENTARY INFORMATION:

Abbreviations

CFR Code of Federal Regulations

FR Federal Register

MIRC Mariana Islands Range Complex

MITT Mariana Islands Training and Testing

ROD Record of Decision

SEIS Supplemental Environmental Impact Statement

SOEIS Supplemental Overseas Environmental Impact Statement

U.S.C. United States Code

Background and Legal Basis

This Coast Guard Record of Decision (ROD) adopts portions of the 2020 Final Supplemental Environmental Impact Statement/Supplemental Overseas Environmental Impact Statement (SEIS/SOEIS). This is necessary because the Coast Guard plans to continue joint and independent training and testing in the Mariana Islands Training and Testing (MITT) study area with the Navy through at least December 31, 2027. The purpose and need for the Coast Guard action is to allow Coast Guard personnel to qualify and train, jointly with and independent of the Navy, in the effective and safe operational use of Coast Guard vessels, aircraft, and weapons under realistic conditions in the area where they would operate and to ensure our Nation's maritime safety and security.

The Coast Guard has broad, multifaceted authority for management of activities over all waters subject to jurisdiction of the U.S. Coast Guard's law enforcement and national defense mission authority, which is based in 14 U.S.C. 102. This section requires the Coast Guard to:

(1) Enforce federal law in waters of the U.S.;

(2) Maintain maritime surveillance;

(3) Enforce safety regulations; and

(4) “Maintain a state of readiness to function as a specialized service in the Navy in time of war, including the fulfillment of Maritime Defense Zone command responsibilities.”

The Coast Guard conducts search and rescue missions under authorities in 14 U.S.C. 102, 502, and 701. These missions are achieved in part by conducting training and testing within the MITT study area to develop, sharpen, and maintain tactics, coordination, and personnel readiness.

Discussion

The Navy solicited public comment on the Draft SEIS/SOEIS on February 1, 2019 (84 FR 1119), and extended the public comment period until April 17, 2019 (84 FR 12238). The Navy also scheduled and held public meetings (84 FR 8515). The Navy announced its final SEIS/SOEIS in the Federal Register on June 5, 2020.

The MITT SEIS/SOEIS identified and examined the alternatives available to achieve the purposes of the training and testing, and assessed the potential environmental impact of each. Alternatives considered but eliminated were continuing actions at levels identified in the 2015 MITT Final EIS/OEIS and ROD, alternative training and testing locations, reduced training and testing, alternatives including geographic mitigation measures within the study area and simulated training and testing only.

Three alternatives were examined in detail in the SEIS/SOEIS.

(1) No Action Alternative: Under the no action alternative, the Navy, Air Force, and Coast Guard would not conduct the proposed training and testing activities in the MITT study area. Other military activities not associated with either Alternatives 1 or 2 would continue to occur. For Farallon de Medinilla, the lease agreement between the U.S. Government and the Commonwealth of the Northern Mariana Islands would remain in place, and the island would continue to be maintained as a Navy range, although strike warfare would no longer continue on the island.

(2) Alternative 1: Alternative 1 reflects a representative year of training and testing to account for the typical fluctuation of training cycles, testing programs, and deployment schedules that generally limit the maximum level of training and testing from occurring for the reasonably foreseeable future. Alternative 1 also reflects a level of testing activities to be conducted into the reasonably foreseeable future, with adjustments from the 2015 MITT Final EIS/OEIS that account for changes in the types and tempo (increases or decreases) of testing activities to meet current and future military readiness requirements.

(3) Alternative 2 (Preferred Alternative): Alternative 2 includes the same types of training activities as Alternative 1 but also considers additional exercises and associated unit-level activities should unanticipated emergent world events require increased readiness levels. For example, Alternative 2 considers Joint Multi-Strike Group Exercises (i.e., Valiant Shield) occurring annually as compared to every other year under Alternative 1. Alternative 2 reflects the maximum number of training activities that could occur within a given year, and assumes that the maximum number of exercises would occur annually. Alternative 2 entails a level of testing activities to be conducted into the reasonably foreseeable future. Under Alternative 2, types and tempos of testing activities would increase compared to Alternative 1.

Under Alternative 2, the Navy, Air Force, and Coast Guard will be able to meet current and future Navy, Air Force, and Coast Guard training and testing, including the use of aerial and vessel assets conducting anchoring and gunnery training within the MITT study area. These actions will allow joint and independent training and testing for Navy, Air Force, and Coast Guard personnel to establish, maintain, and advance readiness in meeting statutory mission requirements. For Coast Guard, the MITT study area is composed of established sea-based (at-sea) ranges along Guam and the Commonwealth of the Northern Mariana Islands and operating areas and special use airspace in the regions of the Mariana Islands that are part of the Mariana Islands Range Complex (MIRC). The study area also includes a transit corridor that connects the MIRC and the Hawaiian Islands Range Complex. For the Navy and Air Force, the study area is the same as what is described for the Coast Guard but also includes land-based training areas in Guam and the Commonwealth of the Northern Mariana Islands.

Alternative 2 was selected because it fulfills the purpose and need of the proposed action and, in combination with avoidance and mitigation measures, results in a minimum of environmental impacts.

This notice is issued under authority of the National Environmental Policy Act of 1969 (Section 102(2)(c)), as implemented by the Council on Environmental Quality regulations (40 CFR 1500-1508), U.S. Coast Guard Environmental Planning Policy (Coast Guard Commandant Instruction 5090.1), law enforcement and national defense mission authority at 14 U.S.C. 102, and search and rescue authority at 14 U.S.C. 102, 502, and 701.

Dated: October 22, 2020.
Craig M. O'Brien,
Captain, 14th District, U.S. Coast Guard, Chief of Response.

[FR Doc. 2020-24357 Filed 11-2-20; 8:45 am]

BILLING CODE 9110-04-P